DEPARTMENT OF COMMERCE

Foreign-Trade Zones Board

[Order No. 1525]

Approval of Request For Manufacturing Authority Within Foreign-Trade Zone 52, Ronkonkoma, New York, TKD Industries, Inc. (Cosmetic Kits)

Pursuant to its authority under the Foreign-Trade Zones Act of June 18, 1934, as amended (19 U.S.C. 81a-81u), the Foreign-Trade Zones Board (the Board) adopts the following Order:

Whereas, the Town of Islip, operator of Foreign-Trade Zone (FTZ) 52, has requested authority under Section 400.32(b)(2) of the Board's regulations on behalf of TKD Industries, Inc., to conduct cosmetic kit manufacturing/kitting under zone procedures within FTZ 52 in Ronkonkoma, New York (FTZ Docket 33-2006, filed 8/10/06);

Whereas, notice inviting public comment has been given in the Federal Register (71 FR 48910, 8/22/06); and,

Whereas, the Board adopts the findings and recommendations of the examiner's report, and finds that the requirements of the FTZ Act and the Board's regulations are satisfied, and that approval of the application is in the public interest;

Now, therefore, the Board hereby grants authority for the manufacture/kitting of cosmetic kits within FTZ 52, as described in the application and the Federal Register notice, subject to the FTZ Act and the Board's regulations, including Section 400.28.

Signed at Washington, DC, this 7th day of September 2007.

David M. Spooner,
Assistant Secretary of Commerce for Import Administration, Alternate Chairman, Foreign-Trade Zones Board.
Attest:
Andrew McGilvray,
Executive Secretary.

[FR Doc. E7-18369 Filed 9-17-07; 8:45 am]

BILLING CODE 3510-DS-S